DEPARTMENT OF JUSTICE

Notice of Lodging of Consent Decree Under the Comprehensive Environmental Response, Compensation, and Liability Act

In accordance with Departmental policy, 28 CFR 50.7, and Section 122(d)(2) of the Comprehensive Environmental Response, Compensation, and Liability Act (“CERCLA”), 42 U.S.C. 9622(d)(2), notice is hereby given that on March 31, 2006, a proposed Remedial Design/Remedial Action Consent Decree (“Decree”) in United States v. Dravo Corporation, et al., Civil Action No. 8:01-cv-500 (D. Nebraska) was lodged with the United States District Court for the District of Nebraska.

The Decree resolves claims of the United States against Defendants Dravo Corporation, Desco Corporation and Desco Corporation d/b/a Marshalltown Instruments, Inc. under Section 107 of CERCLA, 42 U.S.C. 9607, for recovery of response costs incurred and to be incurred by the United States Environmental Protection Agency (“EPA”) at the Colorado Avenue Subsite (“Subsite”) of the Hastings Ground Water Contamination Superfund Site located in Adams County, Nebraska. The Decree requires the Defendants to pay $7.3 million in partial reimbursement of EPA's past response costs. In addition, the Decree requires the Defendants to continue to implement and complete implementation of several components of the interim remedy selected by EPA for the Subsite, and to pay EPA's costs of oversight. The interim work to be performed by the Defendants is expected to cost about $3.5 million.

The Department of Justice will receive for a period of thirty (30) days from the date of this publication comments relating to the Decree. Comments should be addressed to the Assistant Attorney General, Environment and Natural Resources Division, P.O. Box 7611, U.S. Department of Justice, Washington, DC 20044-7611, and should refer to United States v. Dravo Corporation, et al., Civil Action No. 8:01-cv-500 (D. Nebraska) D.J. Ref. 90-11-2-1260/1.

The Decree may be examined at the Office of the United States Attorney for the District of Nebraska, 1620 Dodge Street, Suite 1400, Omaha, Nebraska 68102-1506, and at U.S. EPA Region VII, 901 N. Fifth Street, Kansas City, KS 66101. During the public comment period, the Decree, may also be examined on the following Department of Justice Web site, http://www.usdoj.gov/enrd/open.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $57.25 (25 cents per page reproduction cost) payable to the U.S. Treasury. In requesting a copy without the appendices, please enclose a check in the amount of $12.25 (25 cents per page reproduction cost) payable to the U.S. Treasury.

Robert E. Maher, Jr.,
Assistant Chief, Environmental Enforcement Section, Environment and Natural Resources Division.

[FR Doc. 06-3519 Filed 4-12-06; 8:45 am]

BILLING CODE 4410-15-M